Title 3—

The President

Presidential Determination No. 02-25 of July 9, 2002

Delegation of Authority Under Sections 2(d) and 2(f) of the Migration and Refugee Assistance Act of 1962, as Amended

Memorandum for the Secretary of State

By virtue of the authority vested in me by the Constitution and laws of the United States, including section 301 of title 3 of the United States Code, I hereby delegate the functions and authorities conferred upon the President by sections 2(d) and 2(f) of the Migration and Refugee Assistance Act (MRAA) of 1962, as amended, 22 U.S.C. §2601, insofar as they relate to actions taken under the authority of section 2(b)(2) of the MRAA, to the Secretary of State, who should insure timely performance of any duties and obligations of the delegated authority and who is authorized to redelegate these functions and authorities consistent with applicable law. The Secretary of State, or his or her delegate, is directed to provide notice to the President of any use of the functions and authorities delegated by this determination.

This delegation of authority supplements Presidential Determination No. 99-6, Delegation of Authority Under Section 2(b)(2) of the Migration and Refugee Assistance Act of 1962, as amended (November 30, 1998).

Any reference in this memorandum to section 2 of the MRAA, as amended, shall be deemed to include references to any hereafter-enacted provision of law that is the same or substantially the same as such provision.

You are authorized and directed to publish this Determination in the Federal Register.

B

THE WHITE HOUSE,

Washington, July 9, 2002.

[FR Doc. 02-18445

Filed 7-18-02; 8:45 am]

Billing code 4710-10-P